DEPARTMENT OF COMMERCE

National Oceanic and Atmospheric Administration

50 CFR Part 622

[Docket No. 200124-0029; RTID 0648-XB978]

Fisheries of the Caribbean, Gulf of Mexico, and South Atlantic; Reef Fish Fishery of the Gulf of Mexico; 2022 Red Snapper Private Angling Component Accountability Measure in Federal Waters Off Louisiana and Florida

AGENCY: National Marine Fisheries Service (NMFS), National Oceanic and Atmospheric Administration (NOAA), Commerce.

ACTION: Temporary rule, accountability measure.

SUMMARY: Through this temporary rule, NMFS implements accountability measures (AMs) for the red snapper recreational sector private angling component in the Gulf of Mexico (Gulf) off Louisiana and Florida for the 2022 fishing year. Based on information provided by the Louisiana Department of Wildlife and Fisheries (LDWF) and Florida Fish and Wildlife Conservation Commission (FWC), NMFS has determined that the 2021 regional management area private angling component annual catch limits (ACL) for Gulf red snapper were exceeded for both Louisiana and Florida. Therefore, NMFS reduces the 2022 private angling component ACLs of Gulf red snapper for both the Louisiana and Florida regional management areas. This reduction will remain in effect through the remainder of the current fishing year on December 31, 2022, and is necessary to protect the Gulf red snapper resource.

DATES: This temporary rule is effective from 12:01 a.m., local time, on May 13, 2022, until 12:01 a.m., local time, on January 1, 2023.

FOR FURTHER INFORMATION CONTACT: Kelli O'Donnell, NMFS Southeast Regional Office, telephone: 727-824-5305, email: kelli.odonnell@noaa.gov.

SUPPLEMENTARY INFORMATION: The Gulf reef fish fishery, which includes red snapper, is managed under the Fishery Management Plan for the Reef Fish Resources of the Gulf of Mexico (FMP). The FMP was prepared by the Gulf of Mexico Fishery Management Council and is implemented by NMFS under the authority of the Magnuson-Stevens Fishery Conservation and Management Act (Magnuson-Stevens Act) through regulations at 50 CFR part 622. All red snapper weights discussed in this temporary rule are in round weight.

In 2015, Amendment 40 to the FMP established two components within the recreational sector fishing for red snapper: The private angling component, and the Federal charter vessel and headboat (for-hire) component (80 FR 22422, April 22, 2015). In 2020, NMFS implemented Amendments 50 A-F to the FMP, which delegated authority to the Gulf states (Louisiana, Mississippi, Alabama, Florida, and Texas) to establish specific management measures for the harvest of red snapper in Federal waters of the Gulf by the private angling component of the recreational sector (85 FR 6819, February 6, 2020). These amendments allocate a portion of the private angling ACL to each state, and each state is required to constrain landings to its allocation as part of state management.

As described at 50 CFR 622.39(a)(2)(i), the Gulf red snapper recreational sector quota (ACL) is 7.399 million lb (3.356 million kg) and the recreational private angling component quota (ACL) is 4.269 million lb (1.936 million kg). The Louisiana regional management area private angling component ACL is 816,233 lb (370,237 kg) (50 CFR 622.23(a)(1)(ii)(C)) and the Florida regional management area private angling component ACL is 1,913,451 lb (867,927 kg) (50 CFR 622.23(a)(1)(ii)(B)). Regulations at 50 CFR 622.23(b) require that if a state's red snapper private angling component landings exceed the applicable state's component ACL, then in the following fishing year, that state's private angling ACL will be reduced by the amount of that ACL overage in the prior fishing year.

Based on data provided by the LDFW, NMFS has determined that landings of red snapper off Louisiana for the private angling component, which includes landings for state charter vessels, in 2021 were 823,151 lb (373,375 kg); which is 6,918 lb (3,138 kg) greater than 2021 Louisiana allocation of the private angling component ACL. Based on data provided by the FWC, NMFS has determined that landings of red snapper off Florida for the private angling component, which includes landings for state charter vessels, in 2021 were 2,169,739 lb (984,177 kg); which is 256,288 lb (116,250 kg) greater than 2021 Florida allocation of the private angling component ACL. Accordingly, for the 2022 fishing year, this temporary rule reduces the Louisiana regional management area private angling component ACL for Gulf red snapper by the ACL overage amount of 6,918 lb (3,138 kg), which results in a revised 2022 private angling ACL for Louisiana of 809,315 lb (367,099 kg). This temporary rule also reduces the Florida regional management area private angling component ACL for Gulf red snapper by the ACL overage amount of 256,288 lb (116,250 kg), which results in a revised 2022 private angling ACL for Florida of 1,657,163 lb (751,676 kg).

Additionally, as a result of the adjusted Louisiana and Florida ACLs, the total private angling component quota and the total recreational quota, will also be reduced in the Gulf for 2022. The private angling component quota will reduce from 4,269,000 lb (1,936,000 kg) to 4,005,794 lb (1,816,998 kg) and the total recreational quota will reduce from 7,399,000 lb (3,356,000 kg) to 7,135,794 lb (3,236,742 kg). The recreational private angling component ACLs for other Gulf state management areas (Alabama, Mississippi, and Texas) for 2022 are unaffected by this notice. The reduction in the 2022 red snapper private angling component ACLs for the Louisiana and Florida regional management areas are effective at 12:01 a.m., local time, on May 13, 2022, and will remain in effect through the end of the fishing year on December 31, 2022.

The LDWF and FWC are responsible for ensuring that 2022 private angling component landings in each applicable state's regional management area do not exceed the adjusted 2022 Louisiana and Florida ACLs. NMFS notes that after the LDWF and FWC identified that ACL overages had occurred in 2021, they adjusted their respective 2022 red snapper private angling fishing seasons to account for the reduction in the ACLs as required by the regulations at 50 CFR 622.23(b) and implemented through this temporary rule.

Classification

NMFS issues this action pursuant to section 305(d) of the Magnuson-Stevens Act. This action is required under 50 CFR 622.23(b) which was issued pursuant to section 304(b) of the Magnuson-Stevens Act, and is exempt from review under Executive Order 12866.

These measures are exempt from the procedures of the Regulatory Flexibility Act because the temporary rule is issued without opportunity for prior notice and comment.

This action is based on the best scientific information available. The Assistant Administrator for NOAA Fisheries (AA) finds that the need to implement this action to reduce the private angling component ACLs for the Louisiana and Florida regional management areas constitutes good cause to waive the requirements to provide prior notice and opportunity for public comment on this temporary rule pursuant to the authority set forth in 5 U.S.C. 553(b)(B), because such procedures are contrary to the public interest. Such procedures are unnecessary because the rule implementing the post-season ACL adjustment authority has already been subject to notice and comment, and all that remains is to notify the public of the ACL overage adjustment. Such procedures are contrary to the public interest because a failure to implement the ACL overage adjustments immediately may result in confusion among the public about what ACL is in effect for Louisiana and Florida for the 2022 fishing year.

For the aforementioned reasons, the AA also finds good cause to waive the 30-day delay in the effectiveness of the action under 5 U.S.C. 553(d)(3).

Authority: 16 U.S.C. 1801 et seq.

Dated: May 10, 2022.
Jennifer M. Wallace,
Acting Director, Office of Sustainable Fisheries, National Marine Fisheries Service.

[FR Doc. 2022-10390 Filed 5-12-22; 8:45 am]

BILLING CODE 3510-22-P